DEPARTMENT OF HEALTH AND HUMAN SERVICES

Health Resources And Services Administration

Agency Information Collection Activities: Proposed Project: Free Clinic FTCA Program Deeming Application; Withdrawal

AGENCY: Health Resources and Services Administration, HHS.

ACTION: Notice of withdrawal.

SUMMARY: The Health Resources and Services Administration (HRSA) is announcing the withdrawal of the 60 day FR notice published on August 27, 2004, FR Doc. 04-19681, for public comment on the proposed data collection project related to the Free Clinic Federal Tort Claims Act (FTCA) Program deeming application. The notice is being withdrawn because the agency is requesting an emergency review and approval from OMB for the deeming application under the Paperwork Reduction Act of 1995 (44 U.S.C. Chapter 35).

DATES: The 60 day information collection notice is withdrawn effective September 15, 2004.

FOR FURTHER INFORMATION CONTACT: Susan G. Queen, Ph.D., HRSA Reports Clearance Office, HRSA/OPE Room 14-43, 5600 Fishers Lane, Rockville, MD 20857, 301-443-1129.

SUPPLEMENTARY INFORMATION: Emergency approval is being requested for the Free Clinic FTCA Program deeming application because the data collection and reporting of this information is needed before the expiration of the normal time limits under OMB's regulations at 5 CFR part 1320. This information is needed to ensure the timely availability of data as necessary for the Secretary to make a determination for the provision of FTCA deemed status to volunteer health care professionals working at free clinics. Upon OMB's review and approval of the proposed data collection project, HRSA will publish a new 60 day Federal Register notice to begin the process for routine clearance under 5 CFR part 1320.

Dated: September 10, 2004.
Tina M. Cheatham,
Director, Division of Policy Review and Coordination.

[FR Doc. 04-20769 Filed 9-14-04; 8:45 am]

BILLING CODE 4165-15-P